DEPARTMENT OF COMMERCE

U.S. Census Bureau

Proposed Information Collection; Comment Request; Management and Organizational Practices Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 22, 2015.

ADDRESSES: Direct all written comments to Jennifer Jessup, Departmental Paperwork Clearance Officer, Department of Commerce, Room 6616, 14th and Constitution Avenue NW., Washington, DC 20230 (or via the email at jjessup@doc.gov).

FOR FURTHER INFORMATION CONTACT: Requests for additional information or copies of the information collection instrument(s) and instructions should be directed to Julius Smith, Jr., U.S. Census Bureau, Economy-Wide Statistics Division, Room 7K055, 4600 Silver Hill Road, Washington, DC 20233, (301) 763-7662 (or via the email at julius.smith.jr@census.gov).

SUPPLEMENTARY INFORMATION:

I. Abstract

The Census Bureau plans to conduct the Management and Organizational Practices Survey (MOPS) for survey year 2015 with subsequent data collection activities for this survey pending funding. The MOPS will utilize the Annual Survey of Manufactures (ASM) mail-out sample and will collect information on management and organizational practices at the establishment level. The Census Bureau has conducted the ASM since 1949 to provide key measures of manufacturing activity during intercensal periods. In census years ending in “2” and “7”, we mail and collect the ASM as part of the Economic Census covering the Manufacturing Sector. The ASM is an integral part of the Government's statistical program, furnishing up-to-date estimates of employment and payroll, hours and wages of production workers, value added by manufacture, cost of materials, value of shipments by product class, inventories, and expenditures for both plant and equipment and structures. The data obtained from the MOPS will allow us to estimate a firm's stock of management and organizational assets, specifically the use of decentralized decision rights and establishment performance data such as production targets in decision-making. These data will provide information on investments in management and organizational practices, which will lead to a better understanding of the benefits from these investments when measured in terms of firm productivity or firm market value. This survey on management and organizational practices will provide information on the dimensions of organizational capital for this sector not currently available elsewhere. This clearance request will be for the survey year 2015. Policy makers, such as the Federal Reserve Board and World Bank will use the MOPS to understand the levels and evolution of management practices over time and to forecast future productivity growth.

II. Method of Collection

The 2015 MOPS will be mailed separately from the 2015 ASM and will utilize mail-out/mail-back survey forms. Respondents will have the option of responding electronically through the Census Bureau's Centurion online reporting system. The sample for the 2015 MOPS will consist of the approximately 50,000 establishments in the 2015 ASM mail-out sample. The mail-out sample for the ASM is redesigned at 5-year intervals beginning the second survey year after the Economic Census. For the 2014 ASM, a new probability sample was selected from a frame of approximately 101,000 manufacturing establishments in the 2012 Economic Census that have paid employees, are located in the United States, and are associated with multi-location companies or large single-establishment companies. On an annual basis, the mail-out sample is supplemented with large, newly active single-establishment companies identified from a list provided by the Internal Revenue Service and new manufacturing establishments of multi-location companies identified from the Census Bureau's Company Organization Survey.

III. Data

OMB Control Number: 0607-0963.

Form Number(s): MP-10002.

Type of Review: Regular submission.

Affected Public: Business or Other for Profit, Non-profit Institutions, Small Businesses or Organizations, and State or Local Governments.

Estimated Number of Respondents: 50,000.

Estimated Time per Response: 30 minutes.

Estimated Total Annual Burden Hours: 25,000.

Estimated Total Annual Cost to Public: $0.

Respondent's Obligation: Mandatory.

Legal Authority: Title 13, United States Code, sections 131, 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 16, 2015.
Glenna Mickelson,
Management Analyst, Office of the Chief Information Officer.

[FR Doc. 2015-09234 Filed 4-20-15; 8:45 am]

BILLING CODE 3510-07-P